FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 7, 2018.

A. Federal Reserve Bank of Boston (Prabal Chakrabarti, Senior Vice President) 600 Atlantic Avenue, Boston, Massachusetts 02210-2204. Comments can also be sent electronically to BOS.SRC.Applications.Comments@bos.frb.org:

1. Dimitri J. Nionakis, Milton, Massachusetts; to acquire shares of Federal One Holdings, LLC, Milton, Massachusetts; and thereby indirectly acquire Admirals Bank, Boston, Massachusetts.

B. Federal Reserve Bank of St. Louis (David L. Hubbard, Senior Manager) P.O. Box 442, St. Louis, Missouri 63166-2034. Comments can also be sent electronically to Comments.applications@stls.frb.org.

1. Kenneth Edward Poteet, Huntleigh, Missouri; Corey Kenneth Poteet, Brentwood, Missouri; and McLane Ray Poteet, St. Louis, Missouri; as members of a family control group; to acquire voting shares of M1 Bancshares, Inc., St. Louis, Missouri, and thereby indirectly acquire shares of M1 Bank, Macks Creek, Missouri.

Board of Governors of the Federal Reserve System, July 17, 2018.
Ann Misback,
Secretary of the Board.

[FR Doc. 2018-15613 Filed 7-20-18; 8:45 am]

BILLING CODE 6210-01-P